OFFICE OF THE UNITED STATES TRADE REPRESENTATIVE

North American Free Trade Agreement; Invitation for Applications for Inclusion on the Chapter Twenty Roster

AGENCY: Office of the United States Trade Representative (USTR).

ACTION: Invitation for Applications.

SUMMARY: Chapter Twenty of the North American Free Trade Agreement (NAFTA) establishes a mechanism for the settlement of disputes between the NAFTA Parties. A five-member panel conducts each dispute settlement proceeding. Article 2009 provides for the establishment of a roster of persons to serve on Chapter Twenty dispute settlement panels. USTR invites qualified persons to apply for consideration as a nominee to the roster of panelists.

DATES: Applications should be received no later than February 27, 2002.

ADDRESSES: USTR encourages applicants to submit their applications by email to naftapanel@ustr.gov or by fax to Sandy McKinzy, Attn: Chapter Twenty Roster Applications, at (202) 395-3640. Alternatively, applicants may submit their applications by first class mail to Sandy McKinzy, Attn: Chapter Twenty Roster Applications, Office of the United States Trade Representative, 600 17th Street, NW, Washington, DC 20508. Submissions sent by hand delivery or messengers will not be accepted.

FOR FURTHER INFORMATION CONTACT: For information regarding the form of the application, contact Sandy McKinzy, Litigation Assistant, USTR Office of Monitoring and Enforcement, at (202) 395-3582. For other inquiries, contact Kent Shigetomi, Director for NAFTA, at (202) 395-3412 or David W. Oliver, Associate General Counsel, at (202) 395-3581.

SUPPLEMENTARY INFORMATION:

Dispute Settlement Under NAFTA Chapter Twenty

Chapter Twenty procedures apply to the avoidance or settlement of most types of disputes between the Parties arising under the NAFTA. If the NAFTA Parties cannot settle a dispute through consultations they may convene a dispute settlement panel to consider the matter.

Chapter Twenty Roster and Composition of Panels

Article 2009 of the NAFTA provides for a roster of up to 30 persons to serve on Chapter Twenty dispute settlement panels. A separate five-member panel is formed for each dispute. Panelists normally are selected from the roster (although non-roster panelists may be selected, for instance, when a dispute involves a matter for which a particular expertise not reflected on the roster would be helpful). For each case, roster members under consideration to serve as a panelist will be requested to complete a disclosure form, which is used to identify possible conflicts of interest or appearances of conflict. The disclosure form requests information regarding financial interests and affiliations, including information regarding the identity of any clients the roster member may have and, if applicable, clients of the roster member's firm.

Criteria for Eligibility for Inclusion on Chapter Twenty Roster

Article 2009 provides that roster members shall (a) have expertise or experience in law, international trade, other matters covered by the NAFTA or the resolution of disputes arising under trade agreements, and shall be chosen strictly on the basis of objectivity, reliability and sound judgment, (b) be independent of, and not be affiliated with or take instructions from, any Party, and (c) comply with the code of conduct for Chapter Twenty panelists.

Procedures for Selection of Chapter Twenty Roster Members

Following the receipt of applications, USTR, in consultation with the Senate Committee on Finance and the House Committee on Ways and Means, selects persons that the United States will nominate for inclusion on the Chapter Twenty roster. Roster members are appointed by consensus of the three NAFTA Parties for terms of three years, and may be reappointed.

Remuneration and Expenses

Persons selected for service on a Chapter Twenty panel are remunerated at the rate of $800 (Canadian) per day, plus expenses.

Applications

Qualified persons who wish to be included on the Chapter Twenty roster are invited to submit applications. Applications must be typewritten, and should be headed “Application for Inclusion on NAFTA Chapter Twenty Roster.” Applications should include the following information:

1. Name of the applicant.

2. Business address, telephone number, fax number, and email address.

3. Citizenship(s).

4. Spanish language fluency, written and spoken.

5. Current employment, including title, description of responsibilities, and name and address of employer.

6. Relevant education and professional training.

7. Post-education employment history, including the names and addresses of current and prior employers, positions held, dates of employment, and a summary of responsibilities.

8. Relevant professional affiliations and certifications, including, if any, current bar memberships in good standing.

9. A list and copies of publications, testimony, and speeches, if any, relevant to the subject matter of the NAFTA.

10. A list of international trade proceedings or domestic proceedings relating to international trade matters in which the applicant has provided advice to a party or otherwise participated.

11. Summary of any current and past employment by, or consulting or other work for, the Government of the United States, Canada, or Mexico.

12. The names and nationalities of (a) all foreign principals for whom the applicant is currently or has previously been registered pursuant to the Foreign Agents Registration Act, 22 U.S.C. 611 et seq., and the dates of all registration periods; and (b) all foreign entities for which the applicant (or the applicants's employer on behalf of the applicant) is currently or has previously been registered under the Lobbying Disclosure Act of 1995 (Pub.L. 104-65), and the dates of all registration periods.

13. A short statement of qualifications and availability for service on Chapter Twenty panels, including information relevant to the applicant's expertise or experience in law, international trade, other matters covered by the NAFTA, or the resolution of disputes arising under trade agreements, and willingness to make the necessary time commitments for service on panels.

14. On a separate page, the names, addresses, and telephone and fax numbers of three persons willing to provide information concerning the applicant's qualifications for service, including the applicant's character, reputation, reliability, judgment, and expertise or experience in law, international trade, other matters covered by the NAFTA, or the resolution of disputes arising under trade agreements.

Current Roster Members and Prior Applicants

Current members of the Chapter Twenty roster who wish to remain on the roster are requested to submit updated applications. Persons who have previously applied but have not been selected may reapply.

Public Disclosure

Applications normally will be subject to public disclosure. An applicant who wishes to exempt information from public disclosure should follow the procedures set forth in 15 CFR 2003.6.

False Statements

False statements by applicants regarding their personal or professional qualifications, or financial or other relevant interests that bear on the applicants' suitability for placement on the Chapter Twenty roster or for appointment to Chapter Twenty panels, are subject to criminal sanctions under 18 U.S.C. 1001.

Paperwork Reduction Act

This notice contains a collection of information provision subject to the Paperwork Reduction Act (PRA) that the Office of Management and Budget (OMB) has approved. Notwithstanding any other provision of law, no person is required to respond to nor shall a person be subject to a penalty for failure to comply with a collection of information subject to the requirements of the PRA unless that collection of information displays a currently valid OMB number. This notice's collection of information burden is only for those persons who wish voluntarily to apply for nomination to the NAFTA Chapter Twenty roster. It is expected that the collection of information burden will be under two hours. This collection of information contains no annual reporting or record keeping burden. OMB approved this collection of information under OMB Control Number 0350-0010. Please send comments regarding the collection of information burden or any other aspect of the information collection to USTR at the address above.

Privacy Act

The following statements are made in accordance with the Privacy Act of 1974, as amended (5 U.S.C. 552a). The authority for requesting information to be furnished is section 106 of the NAFTA Implementation Act (19 U.S.C. 3316) and section 141 of the Trade Act of 1974, as amended (19 U.S.C. 2171). Provision of the information requested above is voluntary; however, failure to provide the information may preclude consideration as a candidate for the NAFTA Chapter Twenty roster. This information is maintained in a system of records entitled “Dispute Settlement Panelists Roster.” The information provided is needed, and will be used by USTR and other federal government trade policy officials concerned with NAFTA dispute settlement and by officials of the other NAFTA Parties, to select well-qualified persons for inclusion on the Chapter Twenty roster and for service on Chapter Twenty panels.

Peter B. Davidson,
General Counsel.

[FR Doc. 02-2032 Filed 1-25-02; 8:45 am]

BILLING CODE 3190-01-P